DEPARTMENT OF THE INTERIOR

National Park Service

[NPS-WASO-NAGPRA-NPS0037158; PPWOCRADN0-PCU00RP14.R50000]

Notice of Inventory Completion: U.S. Department of the Interior, National Park Service, Hopewell Culture National Historical Park, Chillicothe, OH

AGENCY: National Park Service, Interior.

ACTION: Notice.

SUMMARY: In accordance with the Native American Graves Protection and Repatriation Act (NAGPRA), the U.S. Department of the Interior, National Park Service, Hopewell Culture National Historical Park has completed an inventory of human remains and associated funerary objects and has determined that there is a cultural affiliation between the human remains and associated funerary objects and Indian Tribes or Native Hawaiian organizations in this notice. The human remains and associated funerary objects were removed from Ross County, OH.

DATES: Repatriation of the human remains and associated funerary objects in this notice may occur on or after February 2, 2024.

ADDRESSES: Chris Alford, Superintendent, Hopewell Culture National Historical Park, 16062 State Route 104, Chillicothe, OH 45601, telephone (740) 774-1126, email chris_alford@nps.gov.

SUPPLEMENTARY INFORMATION: This notice is published as part of the National Park Service's administrative responsibilities under NAGPRA. The determinations in this notice are the sole responsibility of the Superintendent, Hopewell Culture National Historical Park. Additional information on the determinations in this notice, including the results of consultation, can be found in the inventory or related records held by Hopewell Culture National Historical Park.

Description

Human remains representing, at minimum, two individuals were removed from the Hopewell Mound Group (33RO27) or a nearby locale in Ross County, OH, most likely in the late 19th century by a member of the Biszantz family. A collection including these human remains and funerary objects was gifted to Mound City National Monument (now Hopewell Culture National Historical Park) by Miss Anna Biszantz in 1964. The 167 associated funerary objects are four ceramic sherds, one ceramic disk, one copper earspool fragment, three cut mica disks, four chert bifaces, two quartz bifaces, three prismatic blades, one hematite ring, one chlorite schist gorget, one fragmented chisel of meteoric iron, two fragments of galena, 10 shark teeth fragments, three fragments of crystal quartz objects, 20 animal teeth, 105 shell beads, four bone beads, one faunal remain, and one animal bone object.

Human remains representing, at minimum, one individual were removed from the Mound City Group, Ross County, OH, between 1917 and 1921 by a Lt. Kuhn. The human remains were removed from federal property and were accessioned into the collections at Mound City Group National Monument (now Hopewell Culture National Historical Park). The human remains most probably date to the Middle Woodland period. No associated funerary objects are present.

Human remains representing, at minimum, six individuals were removed from the Mound City Group, Ross County, OH between 1920 and 1921 by William C. Mills of the Ohio State Archaeological and Historical Society (now Ohio History Connection). The human remains and funerary objects were removed from federal property and were accessioned into the collections at Mound City Group National Monument (now Hopewell Culture National Historical Park). The human remains most probably date to the Middle Woodland period. The 279 associated funerary objects are one copper axe, one copper headplate, one copper headdress, four copper strips, 14 copper beads, one copper earspool, two obsidian bifaces, one chert biface, one quartz fragment, six marine shell containers, 34 stones, 204 mica, and nine pearls.

Human remains representing, at minimum, 25 individuals were removed from the Mound City Group, Ross County, OH in 1963 by James Brown. The human remains and funerary objects were removed from federal property and were accessioned into the collections at Mound City Group National Monument (now Hopewell Culture National Historical Park). The human remains and funerary objects most probably date to the Middle Woodland period. The 381 associated funerary objects are 11 pearl beads, 31 shell beads, two prismatic blades, four bone artifacts, one stone celt, one copper celt, one copper headplate, nine chert bifaces, eight copper artifacts, six fossilized coral, 178 faunal remains, one obsidian flake, 100 mica, one pipe, eight shells and shell fragments, five ceramic sherds, three red ocher fragments, and 11 stones.

Human remains representing one individual were removed from the Mound City Group, Ross County, OH in 1965 by National Park Service archeologist Lee Hanson. The human remains were removed from federal property and were accessioned into the collections at Mound City Group National Monument (now Hopewell Culture National Historical Park). The human remains most probably date to the Middle Woodland period. No associated funerary objects are present.

Human remains representing, at minimum, six individuals were removed from the Mound City Group, Ross County, OH in 1971 by Raymond S. Baby and colleagues of the Ohio Historical Society (now Ohio History Connection). The human remains and funerary objects were removed from federal property and were accessioned into the collections at Mound City Group National Monument (now Hopewell Culture National Historical Park). The human remains and funerary objects most probably date to the Middle Woodland period. The 389 associated funerary objects are six shell fragments, 123 mica, 31 chert flakes, 55 ceramic sherds, one fossil, 118 faunal remains, two chert tools, one prismatic blade, one chert biface, and 51 stones.

Human remains representing, at minimum, one individual were removed from the Mound City Group, Ross County, OH in 1972 by Bert Drennan of the Ohio Historical Society (now Ohio History Connection). The human remains were removed from federal property and were accessioned into the collections at Mound City Group National Monument (now Hopewell Culture National Historical Park). The human remains most probably date to the Middle Woodland period. No associated funerary objects are present.

Human remains representing, at minimum, one individual were removed from the Mound City Group, Ross County, OH in 1973 by Raymond S. Baby and Bert Drennan of the Ohio Historical Society (now Ohio History Connection). The human remains and funerary objects were removed from federal property and were accessioned into the collections at Mound City Group National Monument (now Hopewell Culture National Historical Park). The human remains most probably date to the Middle Woodland period. The 59 associated funerary objects are 59 faunal remains.

Human remains representing, at minimum, three individuals were removed from the Mound City Group, Ross County, OH in 1975 by Raymond S. Baby of the Ohio Historical Society (now Ohio History Connection). The human remains were removed from federal property and were accessioned into the collections at Mound City Group National Monument (now Hopewell Culture National Historical Park). The human remains most probably date to the Middle Woodland period. The nine associated funerary objects are two shell fragments, three faunal remains, two mica, one ceramic sherd, and one prismatic blade.

Human remains representing, at minimum, 11 individuals were removed from the Mound City Group, Ross County, OH between 1920 and 1975 by an unknown individual or individuals. The human remains and funerary objects were removed from federal property and were accessioned into the collections at Mound City Group National Monument (now Hopewell Culture National Historical Park). The human remains and associated funerary objects most probably date to the Middle Woodland period. The 84 associated funerary objects are 28 shark teeth, seven shell beads, six bone beads, three animal teeth, 10 mica, and 30 faunal remains.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological information, archeological information, geographical information, historical information, linguistics, oral tradition.

Determinations

Pursuant to NAGPRA and its implementing regulations, and after consultation with the appropriate Indian Tribes and Native Hawaiian organizations, Hopewell Culture National Historical Park has determined that:

• The human remains described in this notice represent the physical remains of 57 individuals of Native American ancestry.

• The 1,368 objects described in this notice are reasonably believed to have been placed with or near individual human remains at the time of death or later as part of the death rite or ceremony.

• There is a relationship of shared group identity that can be reasonably traced between the human remains and associated funerary objects described in this notice and the Absentee-Shawnee Tribe of Indians of Oklahoma; Eastern Shawnee Tribe of Oklahoma; and the Shawnee Tribe.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after February 2, 2024. If competing requests for repatriation are received, Hopewell Culture National Historical Park must determine the most appropriate requestor prior to repatriation. Requests for joint repatriation of the human remains and associated funerary objects are considered a single request and not competing requests. Hopewell Culture National Historical Park is responsible for sending a copy of this notice to the Indian Tribes and Native Hawaiian organizations identified in this notice.

Authority: Native American Graves Protection and Repatriation Act, 25 U.S.C. 3003, and the implementing regulations, 43 CFR 10.9, 10.10, and 10.14.

Dated: December 20, 2023.
Melanie O'Brien,
Manager, National NAGPRA Program.

[FR Doc. 2023-28914 Filed 1-2-24; 8:45 am]

BILLING CODE 4312-52-P